DEPARTMENT OF TRANSPORTATION

Global Positioning System Adjacent Band Compatibility Assessment Workshop

AGENCY: Office of the Assistant Secretary for Research and Technology, Department of Transportation.

ACTION: Notice of meeting.

SUMMARY: The purpose of this notice is to inform the public that the U.S. Department of Transportation will host a workshop to discuss implementation of a Global Positioning System (GPS) Adjacent Band Compatibility Assessment. Discussion at this workshop will focus on the various implementation steps of the GPS Adjacent Band Compatibility Assessment, including development of GPS receiver use cases, identification of representative GPS receivers, and development of a test and analysis program. In particular, emphasis will be placed on the information needed from GPS receiver and antenna manufacturers, and the logistics of procuring and handling that information to safeguard manufacturer proprietary data. This workshop is open to the general public by registration only. For those who would like to attend the workshop in person or via WebEx, we request that you register no later than September 4, 2014. Please send the registration information to stephen.mackey@dot.gov providing:

• Name

• Organization

• Telephone number

• Mailing and email addresses

• Attendance method (WebEx or on site)

• Country of citizenship

DATES: Date/Time: September 18, 2014 10 a.m.-5 p.m. (Eastern Daylight Time).

Location: U.S. Department of Transportation, John A. Volpe National Transportation Systems Center, 55 Broadway, Cambridge, MA 02142.

Identification will be required at the entrance of Volpe Center facility (Passport, state ID, or Federal ID).

FOR FURTHER INFORMATION CONTACT: Stephen M. Mackey, U.S. Department of Transportation, John A. Volpe National Transportation Systems Center, RVT-75, Cambridge, MA 02142, Stephen.Mackey@dot.gov, Telephone: 617-494-2753.

Gregory D. Winfree,
Assistant Secretary for Research and Technology.

[FR Doc. 2014-18971 Filed 8-11-14; 8:45 am]

BILLING CODE 4910-9X-P